DEPARTMENT OF THE INTERIOR

Fish and Wildlife Service

[FWS-R4-ES-2009-N204; 40120-1112-0000-F2]

Receipt of Application for Incidental Take Permit for One Parking Facility in Escambia County, FL

AGENCY: Fish and Wildlife Service, Interior.

ACTION: Notice: receipt of application for incidental take permit (ITP) for a Habitat Conservation Plan (HCP); availability of proposed HCP and environmental assessment (EA); request for comment.

SUMMARY: We, the Fish and Wildlife Service, announce the availability of a proposed HCP, an accompanying ITP application, and an EA related to a proposed development that would take the Perdido Key beach mouse (Peromyscus polionotus trissyllepsis) on Perdido Key in Escambia County, Florida. The HCP analyzes the take of the Federally endangered Perdido Key beach mouse incidental to construction and maintenance of a parking facility (Project). Spanish Key Condominium (Applicant) requests an ITP under the Endangered Species Act of 1973 (Act), as amended. The Applicant's HCP describes the mitigation and minimization measures proposed to address the effects on the species.

DATES: We must receive any written comments on the ITP application, EA, and HCP at our Regional Office (see ADDRESSES) on or before November 19, 2009.

ADDRESSES: Documents will be available for public inspection by appointment during normal business hours at the Fish and Wildlife Service's Regional Office, 1875 Century Boulevard, Suite 200, Atlanta, GA 30345 (Attn: David Dell); or Field Supervisor, Fish and Wildlife Service, 1601 Balboa Avenue, Panama City, FL 32405.

FOR FURTHER INFORMATION CONTACT: Mr. David Dell, Regional HCP Coordinator, (see ADDRESSES), telephone: (404) 679-7313; or Mr. Ben Frater, Field Office Project Manager, at the Panama City Field Office (see ADDRESSES), telephone: (850) 769-0552, ext. 248.

SUPPLEMENTARY INFORMATION: We announce the availability of a proposed HCP, accompanying ITP application, and an EA, which analyzes the take of the Perdido Key beach mouse incidental to the Project. The applicant requests a 30-year ITP under section 10(a)(1)(B) of the Endangered Species Act of 1973 (Act; 16 U.S.C. 1531 et seq.), as amended.

We specifically request information, views, and opinions from the public via this notice on our proposed Federal action, including identification of any other aspects of the human environment not already identified in the EA pursuant to NEPA regulations (40 CFR 1506.6). Further, we specifically solicit information regarding the adequacy of the HCP per 50 CFR parts 13 and 17.

An assessment of the likely environmental impacts associated with the implementation of the Spanish Key HCP, the EA considers the environmental consequences of the no-action alternative and the proposed action. The proposed action alternative is issuance of the ITP and implementation of the HCP as submitted by the Applicant. The HCP covers activities associated with the construction and maintenance of a parking facility. Avoidance, minimization and mitigation measures include a reduced design footprint, on-site land management to maintain use of the site by Perdido Key beach mice, and funding off-site habitat acquisition and management.

Public Comments

If you wish to comment, you may submit comments by any one of several methods. Please reference TE227165-0 in such comments. You may mail comments to the Fish and Wildlife Service's Regional Office (see ADDRESSES). You may also comment via the Internet to david_dell@fws.gov. Please include your name and return address in your Internet message. If you do not receive a confirmation from us that we have received your Internet message, contact us directly at either telephone number listed under FOR FURTHER INFORMATION CONTACT.

Finally, you may hand-deliver comments to either of our offices listed under ADDRESSES. Before including your address, phone number, e-mail address, or other personal identifying information in your comment, you should be aware that your entire comment—including your personal identifying information—may be made publicly available at any time. While you can ask us in your comment to withhold your personal identifying information from public review, we cannot guarantee that we will be able to do so.

Covered Area

The area encompassed under the HCP and ITP application is a 0.49-acre parcel located on the bayside of the western portion of Perdido Key, a 16.9-mile barrier island. Perdido Key constitutes the entire historic range of the Perdido Key beach mouse.

Next Steps

We will evaluate these ITP applications, including the HCP and any comments we receive, to determine whether these applications meet the requirements of section 10(a)(1)(B) of the Act. We will also evaluate whether issuance of the section 10(a)(1)(B) ITP complies with section 7 of the Endangered Species Act by conducting an intra-Service section 7 consultation. We will use the results of this consultation, in combination with the above findings, in our final analysis to determine whether or not to issue the ITP. If we determine that the requirements are met, we will issue the ITP for the incidental take of the Perdido Key beach mouse.

Authority: We provide this notice under section 10 of the Act (16 U.S.C. 1531 et seq.) and NEPA regulations (40 CFR 1506.6).

Dated: September 17, 2009.
David Viker,
Acting Regional Director.

[FR Doc. E9-25140 Filed 10-19-09; 8:45 am]

BILLING CODE 4310-55-P